DEPARTMENT OF ENERGY

President's Council of Advisors on Science and Technology (PCAST): Correction

AGENCY: Department of Energy.

ACTION: Notice of Open Teleconference: Correction.

SUMMARY: The Department of Energy (DOE) published in the Federal Register on March 28, 2012, a notice of an open conference call for the President's Council of Advisors on Science and Technology (PCAST). The notice is being corrected to change the time and to add an additional purpose.

Correction

In the Federal Register of March 28, 2012, in FR DOC. 2012-7433, on pages 18798-18799, please make the following corrections:

In the SUMMARY heading, page 18798, third column, first paragraph, twelfth line, after the word “report”, please add the following language, “and Advancing Innovation in Drug Development and Evaluation.”

In the DATES heading, page 18798, third column, first paragraph, third line, please remove, “5 p.m.” and add in its place “5:30 p.m.,”

In the SUPPLEMENTARY INFORMATION, Proposed Schedule and Agenda heading, page 18799, first column, first paragraph, sixth line, please remove “5 p.m.” and in its place add “5:30 p.m.”

Issued in Washington, DC, on March 28, 2012.
LaTanya R. Butler,
Acting Deputy Committee Management Officer.

[FR Doc. 2012-7957 Filed 4-2-12; 8:45 am]

BILLING CODE 6450-01-P